DEPARTMENT OF HEALTH AND HUMAN SERVICES

Health Resources and Services Administration

Charter Renewal for the Advisory Commission on Childhood Vaccines

AGENCY: Health Resources and Services Administration (HRSA), Department of Health and Human Services (HHS).

ACTION: Notice.

SUMMARY: In accordance with the Federal Advisory Committee Act (FACA), HHS is hereby giving notice that the charter for the Advisory Commission on Childhood Vaccines (ACCV) has been renewed. The effective date of the renewed charter is July 21, 2022.

FOR FURTHER INFORMATION CONTACT: CDR George Reed Grimes, M.D., MPH, Designated Federal Officer, Health Systems Bureau, HRSA, 5600 Fishers Lane, 08N186A, Rockville, Maryland 20857; (301)443-6634; or ACCV@hrsa.gov.

SUPPLEMENTARY INFORMATION: The ACCV provides advice and recommendations to the Secretary of HHS (Secretary) on policy, program development, and other matters of significance concerning the activities under 2119 of the Public Health Service Act (the Act) (42 U.S.C. 300aa-19), as enacted by Public Law 99-660, and as subsequently amended. The ACCV advises the Secretary on issues related to implementation of the National Vaccine Injury Compensation Program. Other activities of the ACCV include: recommending changes in the Vaccine Injury Table at its own initiative or as the result of the filing of a petition; advising the Secretary in implementing section 2127 of the Act regarding the need for childhood vaccination products that result in fewer or no significant adverse reactions; surveying federal, state, and local programs and activities related to gathering information on injuries associated with the administration of childhood vaccines, including the adverse reaction reporting requirements of section 2125(b) of the Act; advising the Secretary on the methods of obtaining, compiling, publishing, and using credible data related to the frequency and severity of adverse reactions associated with childhood vaccines; consulting on the development or revision of Vaccine Information Statements; and recommending to the Director of the National Vaccine Program research related to vaccine injuries which should be conducted to carry out the National Vaccine Injury Compensation Program.

The renewed charter for the ACCV was approved on July 1, 2022. The filing date is July 21, 2022. Renewal of the ACCV charter gives authorization for the Commission to operate until July 21, 2024.

A copy of the ACCV charter is available on the ACCV's website at https://www.hrsa.gov/advisory-committees/vaccines/index.html. A copy of the charter also can be obtained by accessing the FACA database that is maintained by the Committee Management Secretariat under the General Services Administration. The website address for the FACA database is https://www.facadatabase.gov/.

Maria G. Button,
Director, Executive Secretariat.

[FR Doc. 2022-15573 Filed 7-20-22; 8:45 am]

BILLING CODE 4165-15-P